DEPARTMENT OF ENERGY

Federal Energy Regulatory Commission

[Docket No. EL04-108-000]

Public Utilities Providing Service in California Under Sellers' Choice Contracts; Notice of Initiation of Proceeding and Refund Effective Date

June 22, 2004.

On June 17, 2004, the Commission issued an order in the above-referenced dockets initiating a proceeding in Docket No. EL04-108-000 under section 206 of the Federal Power Act concerning issues related to sellers' choice contracts.

The refund effective date in Docket No. EL04-108-000, established pursuant to section 206(b) of the Federal Power Act will be 60 days following publication of this notice in the Federal Register.

Magalie R. Salas,
Secretary.

[FR Doc. E4-1434 Filed 6-28-04; 8:45 am]

BILLING CODE 6717-01-P